DEPARTMENT OF TRANSPORTATION

Federal Aviation Administration

RTCA Government/Industry Air Traffic Management Advisory Committee (ATMAC) Revised Agenda—Rescheduled Meeting

AGENCY: Federal Aviation Administration (FAA), DOT.

ACTION: Notice of RTCA Government/Industry Air Traffic Management Advisory Committee (ATMAC) revised agenda—rescheduled meeting.

SUMMARY: The FAA is issuing this notice to advise the public of a meeting of RTCA Government/Industry Air Traffic Management Advisory Committee (ATMAC) revised agenda—rescheduled meeting.

DATES: The meeting will be held March 3, 2010, from 10 a.m. to 1 p.m. This meeting is the rescheduled date for the ATMAC meeting originally scheduled for February 11, 2010 and cancelled due to inclement weather.

This meeting is being scheduled with less than 15 days calendar notice since it is a rescheduled meeting, due to the pressing need to continue the work on NextGen implementation, and the use of RTCA Web site and email communications to advise the public about the February 11, 2010 cancellation and March 3, 2010 rescheduling.

ADDRESSES: The meeting will be held at FAA Headquarters, 800 Independence Avenue, SW., FAA Auditorium (3rd Floor), Washington, DC 20591.

FOR FURTHER INFORMATION CONTACT: RTCA Secretariat, 1828 L Street, NW., Suite 805, Washington, DC 20036; telephone (202) 833-9339; fax (202) 833-9434; Web site http://www.rtca.org. Metro: L'Enfant Plaza Station (Use 7th & Maryland Exit).

SUPPLEMENTARY INFORMATION: Pursuant to section 10(a)(2) of the Federal Advisory Committee Act (Pub. L. 92-463, 5 U.S.C., Appendix 2), notice is hereby given for the Air Traffic Management Advisory Committee (ATMAC) Revised Agenda—Rescheduled Meeting meeting. The agenda will include:

• Opening Plenary (Welcome and Introductions).

• Trajectory Operations (TOps) Work Group Status Report.

• ADS-B Work Group Update.

• Airspace Work Group Annual Report and Recommendations.

• FAA Response to RTCA NextGen Implementation Task Force Recommendations.

• NextGen Implementation Work Group (NGIWG) Report, Discussion, and Next Steps.

• Closing Plenary (Other Business, Adjourn).

Note: Please arrive in the FAA lobby by 9:30 a.m. to allow ample time for security and check in procedures.

Attendance is open to the interested public but limited to space availability. With the approval of the chairmen, members of the public may present oral statements at the meeting. Persons wishing to present statements or obtain information should contact the person listed in the FOR FUTHER INFORMATION CONTACT section. Members of the public may present a written statement to the committee at any time.

Issued in Washington, DC, on February 12, 2010.
Francisco Estrada C.,
RTCA Advisory Committee.

[FR Doc. 2010-3156 Filed 2-17-10; 8:45 am]

BILLING CODE 4910-13-P